DEPARTMENT OF HOUSING AND URBAN DEVELOPMENT

[Docket No. FR-7038-N-15]

60-Day Notice of Proposed Information Collection: Owner's Certification With Department of Housing and Urban Development (HUD) Tenant Eligibility and Rent Procedures; OMB Control Number: 2502-0182

AGENCY: Office of the Assistant Secretary for Housing—Federal Housing Commissioner, HUD.

ACTION: Notice.

SUMMARY: HUD is seeking approval from the Office of Management and Budget (OMB) for the information collection described below. Following the Paperwork Reduction Act, HUD requests comments from all interested parties on the proposed information collection. The purpose of this notice is to allow for 60 days of public comment.

DATES: Comments Due Date: January 13, 2025.

ADDRESSES: Interested persons are invited to submit comments regarding this proposal.

Written comments and recommendations for the proposed information collection can be sent within 60 days of publication of this notice to www.regulations.gov. Interested persons are also invited to submit comments regarding this proposal by name and/or OMB Control Number and can be sent to: Colette Pollard, Reports Management Officer, REE, Department of Housing and Urban Development, 451 7th Street SW, Room 8210, Washington, DC 20410-5000; telephone (202) 402-3400. (this is not a toll-free number) or email at Colette.Pollard@hud.gov, for a copy of the proposed forms or other available information.

FOR FURTHER INFORMATION CONTACT: Colette Pollard, Reports Management Officer, REE, Department of Housing and Urban Development, 451 7th Street, SW, Washington, DC 20410; email Colette.Pollard@hud.gov or telephone (202) 402-3400. This is not a toll-free number. HUD welcomes and is prepared to receive calls from individuals who are deaf or hard of hearing, as well as individuals with speech and communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

A. Overview of Information Collection

Title of Information Collection: Applications for Housing Assistance Payments; Special Claims Processing.

OMB Approval Number: 2502-0182.

OMB Expiration Date: December 31, 2017.

Type of Request: Reinstatement, with change, of previously approved collection for which approval has expired.

Form Number(s):

• HUD-52670, Housing Owner's Certification and Application for Housing Assistance Payments

• HUD-52670-A Part 1, Schedule of Tenant Assistance Payments Due

• HUD-52670-A Part 2, Special Claims Schedule

• HUD-52670-A Part 3, Adjustments to Schedule of Tenant Assistance Payments Due

• HUD-52670-A Part 4, Miscellaneous Accounting Requests for Schedule of Tenant Assistance Payments Due

• HUD-52670-A Part 5, Approved Special Claims for Schedule of Tenant Assistance Payments Due

• HUD-52670-A Part 6, Repayment Agreements and FSS Escrows for Schedule of Tenant Assistance Payments Due

• HUD-52671-A, Special Claims for Unpaid Rent/Damages

• HUD-52671-B, Exceptions to Limitations on Admission of Families

• HUD-52671-C, Special Claims for Regular Vacancies

• HUD-52671-D, Special Claims for Debt Service

• HUD-93742, Senior Preservation Rental Assistance Contract (SPRAC I)

• HUD-93742a, Senior Preservation Rental Assistance Contract (SPRAC II)

Description of the need for the information and proposed use: The Department needs to collect this information to establish an applicant's eligibility for admittance to subsidized housing, specify which eligible applicants may be given priority over others, and prohibit racial discrimination in conjunction with the selection of tenants and unit assignments. The Department must specify tenant eligibility requirements and how tenants' incomes, rents, and assistance must be verified and computed to prevent the Department from making improper payments to owners on behalf of assisted tenants. The Department also must provide annual reports to Congress and the public on the race/ethnicity and gender composition of subsidy program beneficiaries. This information is essential to maintain a standard of fair practices when assigning tenants to HUD Multifamily properties.

HUD must specify tenant eligibility requirements and how tenants' incomes, rents, and assistance must be verified and computed to prevent HUD from making improper payments to owners on behalf of assisted tenants. These information collections are essential to reduce improper payment standards in providing $13 billion in rental assistance to low-income families in HUD Multifamily properties.

Respondents: Individuals or households, Businesses or other for-profit, Not-for-profit institutions, Federal Government, and State, Local, or Tribal Government.

Estimated Number of Respondents: 27,939.

Estimated Number of Responses: 334,960.

Frequency of Response: 1.

Average Hours per Response: 8.32.

Total Estimated Burden: 716,443.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of collecting information on those who are to respond, including using appropriate automated collection techniques or other information technology, e.g., permitting electronic submission of responses.

HUD encourages interested parties to submit comments in response to these questions.

C. Authority

Section 3507 of the Paperwork Reduction Act of 1995, 44 U.S.C. 3507.

Jeffrey D. Little,
General Deputy Assistant Secretary for Housing—Federal Housing Administration.

[FR Doc. 2024-26206 Filed 11-12-24; 8:45 am]

BILLING CODE 4210-67-P